SMALL BUSINESS ADMINISTRATION

[Disaster Declaration #16664 and #16665; Oregon Disaster Number OR-00110]

Presidential Declaration Amendment of a Major Disaster for the State of Oregon

AGENCY: U.S. Small Business Administration.

ACTION: Amendment 1.

SUMMARY: This is an amendment of the Presidential declaration of a major disaster for the State of Oregon (FEMA-4562-DR), dated 09/15/2020.

Incident: Wildfires and Straight-line Winds.

Incident Period: 09/07/2020 and continuing.

DATES: Issued on 11/14/2020.

Physical Loan Application Deadline Date: 11/30/2020.

Economic Injury (EIDL) Loan Application Deadline Date: 06/15/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Oregon, dated 09/15/2020, is hereby amended to extend the deadline for filing applications for physical damages as a result of this disaster to 11/30/2020.

All other information in the original declaration remains unchanged.

(Catalog of Federal Domestic Assistance Number 59008)

Cynthia Pitts,
Acting Associate Administrator for Disaster Assistance.

[FR Doc. 2020-25739 Filed 11-20-20; 8:45 am]

BILLING CODE 8026-03-P